DEPARTMENT OF ENERGY

Federal Energy Regulatory Commission

[Project No. 2444-042]

Northern States Power Company; Notice of Revised Procedural Schedule for Environmental Assessment for the Proposed Project Relicense

On July 21, 2023, Northern States Power Company filed a relicense application for the 1.2-megawatt White River Hydroelectric Project No. 2444. On September 23, 2024, Commission staff issued a notice of intent to prepare an Environmental Assessment (EA) to evaluate the effects of relicensing the project.¹ The notice included an anticipated schedule for issuing the EA.

¹ For tracking purposes under the National Environmental Policy Act, the unique identification number for documents relating to this environmental review is EAXX-019-20-000-1725362410.

By this notice, Commission staff is updating the procedural schedule for completing the EA. The revised schedule is shown below. Further revisions to the schedule may be made as appropriate.

Milestone—Target Date

Issue EA—August 4, 2025

Any questions regarding this notice may be directed to Nicholas Ettema by telephone at (312) 596-4447, or by email at nicholas.ettema@ferc.gov.

Dated: May 29, 2025.
Debbie-Anne A. Reese,
Secretary.

[FR Doc. 2025-10179 Filed 6-3-25; 8:45 am]

BILLING CODE 6717-01-P